DEPARTMENT OF ENERGY

Federal Energy Regulatory Commission

Combined Notice of Filings #1

Take notice that the Commission received the following electric corporate filings:

Docket Numbers: EC15-183-000.

Applicants: Allegheny Ridge Wind Farm, LLC, Aragonne Wind LLC, Blue Canyon Windpower LLC, Buena Vista Energy LLC, Caprock Wind LLC, Cedar Creek Wind Energy, LLC, Crescent Ridge LLC, Eurus Combine Hills I LLC, GSG, LLC, Kumeyaay Wind LLC, Mendota Hills, LLC.

Description: Application for Authorization for Disposition of Jurisdictional Facilities and Request for Expedited Action of Allegheny Ridge Wind Farm, LLC, et al.

Filed Date: 8/6/15.

Accession Number: 20150806-5027.

Comments Due: 5 p.m. ET 8/27/15.

Take notice that the Commission received the following exempt wholesale generator filings:

Docket Numbers: EG15-111-000.

Applicants: Chapman Ranch Wind I, LLC.

Description: Notice of Self-Certification of Exempt Wholesale Generator Status of Chapman Ranch Wind I, LLC.

Filed Date: 8/5/15.

Accession Number: 20150805-5140.

Comments Due: 5 p.m. ET 8/26/15.

Take notice that the Commission received the following electric rate filings:

Docket Numbers: ER15-1721-000.

Applicants: energy.me midwest llc.

Description: Response to July 14, 2015 Commission Letter requesting additional information of energy.me midwest llc.

Filed Date: 8/5/15.

Accession Number: 20150805-5169.

Comments Due: 5 p.m. ET 8/19/15.

Docket Numbers: ER15-2386-000.

Applicants: PJM Interconnection, L.L.C., Virginia Electric and Power Company.

Description: Section 205(d) Rate Filing: Virginia Electric and Power submits revisions to OATT Attachment H16-C to be effective 6/15/2015.

Filed Date: 8/5/15.

Accession Number: 20150805-5142.

Comments Due: 5 p.m. ET 8/26/15.

Docket Numbers: ER15-2387-000.

Applicants: Midcontinent Independent System Operator, Inc.

Description: Section 205(d) Rate Filing: 2015-08-06_SA 2524 ITC Transmission-DTE Electric 3rd Rev. GIA (J235/J354) to be effective 8/7/2015.

Filed Date: 8/6/15.

Accession Number: 20150806-5097.

Comments Due: 5 p.m. ET 8/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2015.
Nathaniel J. Davis, Sr.,
Deputy Secretary.

[FR Doc. 2015-19885 Filed 8-12-15; 8:45 am]

BILLING CODE 6717-01-P